DEPARTMENT OF COMMERCE

International Trade Administration

[A-549-502]

Certain Welded Carbon Steel Pipes and Tubes From Thailand: Final Results of Antidumping Duty Administrative Review

AGENCY: Import Administration, International Trade Administration, Department of Commerce.

ACTION: Notice of final results of antidumping duty administrative review: certain welded carbon steel pipes and tubes from Thailand.

SUMMARY: On April 12, 2001, the Department of Commerce (“the Department”) published in the Federal Register the preliminary results of its administrative review of the antidumping duty order on certain welded carbon steel pipes and tubes from Thailand (66 FR 18901). The review covers Saha Thai Steel Pipe Company, Ltd. (“Saha Thai”), a manufacturer/exporter of the subject merchandise. The period of review is March 1, 1999 through February 29, 2000.

Based on our analysis of the comments received, the final results differ from the preliminary results of review. The final weighted-average dumping margin for the reviewed firm is listed below in the section entitled “Final Results of the Review.”

EFFECTIVE DATE: October 22, 2001.

FOR FURTHER INFORMATION CONTACT: Javier Barrientos or Sally Gannon, Import Administration, International Trade Administration, U.S. Department of Commerce, Washington, DC 20230; telephone: (202) 482-2243 and (202) 482-0162, respectively.

SUPPLEMENTARY INFORMATION:

The Applicable Statute

Unless otherwise indicated, all citations to the statute are references to the Tariff Act of 1930 (“the Act”), as amended, effective January 1, 1995, the effective date of the amendments made to the Act by the Uruguay Round Agreements Act (“URAA”). In addition, unless otherwise indicated, all citations to the Department's regulations are to the regulations codified at 19 CFR Part 351 (2000).

Background

On April 12, 2001, the Department published its preliminary results in this administrative review. See Certain Welded Carbon Steel Pipes and Tubes From Thailand: Preliminary Results of Antidumping Duty Administrative Review, 66 FR 18901 (April 12, 2001). We invited parties to comment on the preliminary results. After the preliminary results were issued, the Department verified Saha Thai's sales and cost data from June 4 through 13, 2001. On August 15, 2001, we extended the time limit for the final results of this review until no later than October 9, 2001. See Notice of Extension of Time Limit for Final Results of Antidumping Duty Administrative Review: Certain Welded Carbon Steel Pipes and Tubes From Thailand, 66 FR 42840(August 15, 2001). The petitioners, Allied Tube & Conduit Corporation and Wheatland Tube Co., submitted a timely case brief on September 13, 2001, and the respondent submitted a timely rebuttal brief on September 17, 2001.

The Department has conducted this administrative review in accordance with section 751 of the Act.

Scope of the Antidumping Order

The products covered by this antidumping order are certain welded carbon steel pipes and tubes from Thailand. The subject merchandise has an outside diameter of 0.375 inches or more, but not exceeding 16 inches. These products, which are commonly referred to in the industry as “standard pipe” or “structural tubing,” are hereinafter designated as “pipe and tube.” The merchandise is classifiable under the Harmonized Tariff Schedule of the United States (HTSUS) item numbers 7306.30.1000, 7306.30.5025, 7306.30.5032, 7306.30.5040, 7306.30.5055, 7306.30.5085, and 7306.30.5090. Although the HTSUS subheadings are provided for convenience and Customs purposes, our written description of the scope of the order is dispositive.

Analysis of Comments Received

All issues raised in the case and rebuttal briefs by parties to this administrative review are addressed in the “Issues and Decision Memorandum” (“Decision Memorandum”) from Joseph A. Spetrini, Deputy Assistant Secretary, AD/CVD Enforcement Group III, to Faryar Shirzad, Assistant Secretary for Import Administration, dated October 9, 2001, which is hereby adopted by this notice. A list of the issues which parties have raised and to which we have responded, all of which are in the Decision Memorandum, is attached to this notice as an Appendix. Parties can find a complete discussion of all issues raised in this review and the corresponding recommendations in this public memorandum, which is on file in the Central Records Unit, Room B-099, of the main Department building. In addition, a complete version of the Decision Memorandum can be accessed directly on the Web at http://ia.ita.doc.gov/frn/index.html. The paper copy and electronic version of the Decision Memorandum are identical in content.

Changes Since the Preliminary Results

Based on verification and our analysis of comments received and of the database calculations, we have changed our results from the preliminary results of review. For the final results of review, duty drawback has been adjusted to reflect the decisions the Department has reached for the final results. These changes are discussed in the relevant sections of the Decision Memorandum. In addition, minor corrections from verification by the Department resulted in revisions to: the gross unit price for certain U.S. invoices; the brokerage amounts for certain invoices; the indirect selling expenses; the home market credit; the packing expense; the U.S. and home market interest rates, and any calculations using these rates; and other miscellaneous expenses for some sales.

Final Results of Review

We determine that the following weighted-average percentage margin exists for the period March 1, 1999, through February 29, 2000:

Manufacturer/exporter/reseller | Margin (percent)
Saha Thai Steel Pipe Company, Ltd | 1.92

The Department shall determine, and Customs shall assess, antidumping duties on all appropriate entries. The Department will issue appraisement instructions directly to the Customs Service. In accordance with 19 CFR 351.212(b), we have calculated exporter/importer-specific assessment rates. We divided the total dumping margins for the reviewed sales by the entered value of those reviewed sales for Saha Thai. We will direct Customs to assess the resulting percentage margins against the entered value for the subject merchandise on each of Saha Thai's entries during the review period.

Cash Deposit Requirements

The following deposit requirements will be effective upon publication of this notice of final results of administrative review for all shipments of certain welded carbon steel pipes and tubes from Thailand entered, or withdrawn from warehouse, for consumption on or after the date of publication, as provided by section 751(a)(1) of the Act: (1) The cash deposit rate for Saha Thai will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) if neither the exporter nor the manufacturer is a firm covered in these or any previous reviews conducted by the Department, the cash deposit rate will be the “all others” rate established in the original LTFV investigation, which is 15.67 percent. These deposit requirements shall remain in effect until publication of the final results of the next administrative review.

The cash deposit rate has been determined on the basis of the selling price to the first unaffiliated U.S. customer.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections 751(a)(1) and 777(i) of the Act.

Dated: October 9, 2001.
Faryar Shirzad,
Assistant Secretary for Import Administration.

Appendix 1—Issues in Decision Memorandum

Comments and Responses

1. Duty Reimbursement

2. Theoretical Conversion Factor

3. Duty Drawback

[FR Doc. 01-26549 Filed 10-19-01; 8:45 am]

BILLING CODE 3510-DS-P